ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular Board meeting in Washington, DC, Wednesday, November 9, 2011, from 1:30-3 p.m.

DATES: Wednesday, November 9, 2011, 1:30-3 p.m.

ADDRESSES: This meeting will be held at the Access Board Conference Room, 1331 F Street NW., suite 800, Washington, DC 20004.

FOR FURTHER INFORMATION CONTACT: For further information regarding the meetings, please contact David Capozzi, Executive Director, (202) 272-0010 (voice); (202) 272-0082 (TTY).

SUPPLEMENTARY INFORMATION: At the Board meeting scheduled on the afternoon of Wednesday, November 9, 2011, the Access Board will consider the following agenda items:

• Approval of the draft July 13, 2011 meeting minutes

• Planning and Evaluation Committee Report

• Ad Hoc Committee Reports

○ Information and Communications Technologies—advance notice of proposed rulemaking (vote)

○ Medical Diagnostic Equipment—notice of proposed rulemaking (vote)

• Executive Director's Report

• Public Comment, Open Topics

All meetings are accessible to persons with disabilities. An assistive listening system, computer assisted real-time transcription (CART), and sign language interpreters will be available at the Board meeting and committee meetings. Persons attending Board meetings are requested to refrain from using perfume, cologne, and other fragrances for the comfort of other participants (see http://www.access-board.gov/about/policies/fragrance.htm for more information).

David M. Capozzi,
Executive Director.

[FR Doc. 2011-28540 Filed 11-2-11; 8:45 am]

BILLING CODE 8150-01-P